DEPARTMENT OF TRANSPORTATION

Federal Highway Administration

[Docket No. FHWA-2013-0028]

Agency Information Collection Activities: Request for Comments for a New Information Collection

AGENCY: Federal Highway Administration (FHWA), DOT.

ACTION: Notice and request for comments.

SUMMARY: FHWA invites public comments about our intention to request the Office of Management and Budget's (OMB) approval for a new information collection, which is summarized below under Supplementary Information. We published a Federal Register Notice with a 60-day public comment period on this information collection on March 5, 2013. We are required to publish this notice in the Federal Register by the Paperwork Reduction Act of 1995.

DATES: Please submit comments by October 24, 2013.

ADDRESSES: You may send comments within 30 days to the Office of Information and Regulatory Affairs, Office of Management and Budget, 725 17th Street, NW., Washington, DC 20503, Attention DOT Desk Officer. You are asked to comment on any aspect of this information collection, including: (1) whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2013-0028.

FOR FURTHER INFORMATION CONTACT: Lafayette Melton, 202-366-2907, Office of Human Resources, Corporate Recruitment and Career Entry Division, Federal Highway Administration, Department of Transportation, 1200 New Jersey Avenue, SE., Washington, DC 20590. Office hours are from 9 a.m. to 5 p.m., Monday through Friday, except Federal holidays.

SUPPLEMENTARY INFORMATION: Title: DOT-FHWA Summer Transportation Internship Program for diverse Groups (STIPDG).

Background: 23 USC 140 (b) Section 5204—Training and Education/Surface Transportation Workforce Development, Training, and Education states that subject to project approval by the Secretary, a State may obligate funds apportioned to the State for five primary core programs (STP, NHS, Bridge, IM, CMAQ), workforce development, training, and education, including student internships; university or community college support; and outreach to develop interest and promote participation in surface transportation careers. The Summer Transportation Internship Program for Diverse Groups (STIPDG) is an important part of U.S. DOT's intermodal effort to promote the entry of women, persons with disabilities, and members of diverse groups into transportation careers where traditionally these groups have been under-represented. Accordingly, The Federal Highway Administrations' Office of Civil rights will continue to actively support the STIPDG by working closely with FHWA's Office of Human Resources, specifically the Student Outreach and Career Entry Group, which has responsibility for administering the program, to include participation and placement of college students, DOT-wide, and for all occupational disciplines, to include summer intern placement DOT-wide and nationwide.

The STIPDG accepts approximately 500 applications each year and as a result, places as few and 60 and as many as 120 undergraduate, graduate, and law students in transportation-related, non-administrative, technical, hands-on assignments with a Federal or State mentor providing on-the- job training. The STIPDG provides college students with an opportunity to work on current transportation-related topics and issues identified in, or directly pertaining to, the current DOT Strategic Plan. The STIPDG is open to all qualified applicants regardless of race, color, religion, sex, national origin, political affiliation, sexual orientation, marital status, disability, age, membership in an employee organization, or other non-merit factor.

The STIPDG is open to all applicants based on the eligibility requirements that follow and based on the merit of the “Required Documents” listed in bulleted-format below

1. Applicants must be currently enrolled in degree-granting programs of study at accredited U.S. institutions of higher education recognized by the U.S. Department of Education.

2. Undergraduate applicants must be juniors or seniors for the fall of 2013. Undergraduate applicants from Junior, Tribal, or Community Colleges must have completed their first year

3. Law Applicants must be entering their second or third year of law school in the fall of 2013.

4. Applicants who are scheduled to graduate during the coming spring or summer semesters are not eligible for consideration for the STIPDG unless: (1) they have been accepted for graduate school enrollment; (2) they have been accepted for enrollment at an institution of higher education; or (3) their acceptance is pending. In all instances, the applicant must submit with their completed application packages, documentation (with the school's logo) reflecting their status. (There will be no exceptions.)

5. Former STIPDG interns may apply but will not receive preferential consideration.

6. Applicants will be evaluated based on the “completeness of the application and the Required Documents” listed below. Priority will be given to those with GPA's of 3.0 or better (for the Major and/or cumulatively).

7. Applicants must be available and able to participate in the entire 10-week program.

Respondents: Approximately 500 applicants consisting of undergraduate, graduate and law students. All applicants must be U.S. Citizens.

Frequency: Annually.

Estimated Average Burden per Response: Approximately two hours to complete and submit the application.

Estimated Total Annual Burden Hours: Approximately 1000 hours annually.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49CFR 1.48.

Issued On: September 13, 2013.
Michael Howell,
Information Collection Officer.

[FR Doc. 2013-23215 Filed 9-23-13; 8:45 am]

BILLING CODE P